DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2020, through April 30, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Fredrick Messer, Okmulgee, Oklahoma, Court of Federal Claims No: 20-0369V

2. Anne Marie Beachel, Newark, New York, Court of Federal Claims No: 20-0370V

3. Annette Hoops, Miamisburg, Ohio, Court of Federal Claims No: 20-0371V

4. Charles Motsett, Jacksonville, Florida, Court of Federal Claims No: 20-0374V

5. Thomisa Brown on behalf of B. F., Columbia, South Carolin, Court of Federal Claims No: 20-0375V

6. Kenneth Clark, Lakeland, Florida, Court of Federal Claims No: 20-0376V

7. David Butts, Lyons Falls, New York, Court of Federal Claims No: 20-0377V

8. Wade Green, Boulder, Colorado, Court of Federal Claims No: 20-0378V

9. Sheila Key, Edgewater, Colorado, Court of Federal Claims No: 20-0379V

10. Frady Fekete, Brooklyn, New York, Court of Federal Claims No: 20-0380V

11. Sharon Campbell, Stoneham, Massachusetts, Court of Federal Claims No: 20-0381V

12. Jana Logan, Greensburg, Pennsylvania, Court of Federal Claims No: 20-0382V

13. Shannah Game, Bessemer, Alabama, Court of Federal Claims No: 20-0383V

14. Kristin Kabanuk, Seaside, Oregon, Court of Federal Claims No: 20-0385V

15. Jennifer Cashion, High Point, North Carolina, Court of Federal Claims No: 20-0387V

16. Roxane Wise, Union, New Jersey, Court of Federal Claims No: 20-0389V

17. Mandy Remillard, Berlin, New Hampshire, Court of Federal Claims No: 20-0390V

18. Caitlin O'Donoghue, Crystal Lake, Illinois, Court of Federal Claims No: 20-0391V

19. Michael Auen, Southborough, Massachusetts, Court of Federal Claims No: 20-0392V

20. Alexandra Marcucci, Placerville, California, Court of Federal Claims No: 20-0393V

21. Anastacia Salcedo, Cambridge, Massachusetts, Court of Federal Claims No: 20-0394V

22. Ivelearis Teresa Colon Mercado, Carolina, Puerto Rico, Court of Federal Claims No: 20-0395V

23. Tamera Cursio, Uniontown, Ohio, Court of Federal Claims No: 20-0397V

24. Michael Washburn, Louisville, Kentucky, Court of Federal Claims No: 20-0398V

25. Lillian Robinson, Philadelphia, Pennsylvania, Court of Federal Claims No: 20-0400V

26. Mindy Botts, New Orleans, Louisiana, Court of Federal Claims No: 20-0402V

27. Kelsie Reynolds, Abilene, Texas, Court of Federal Claims No: 20-0403V

28. Shirley Underwood, Jonesboro, Arkansas, Court of Federal Claims No: 20-0404V

29. Neva Bernier, Hagerstown, Maryland, Court of Federal Claims No: 20-0405V

30. Eric Felland, Sartell, Minnesota, Court of Federal Claims No: 20-0406V

31. Deborah Ferry, Washington, District of Columbia, Court of Federal Claims No: 20-0407V

32. William Newman, St. Louis, Missouri, Court of Federal Claims No: 20-0408V

33. Mary Fiolek, White Lake, Michigan, Court of Federal Claims No: 20-0409V

34. Larry J. Parker, Scottsdale, Arizona, Court of Federal Claims No: 20-0411V

35. Christopher Gravens, New York, New York, Court of Federal Claims No: 20-0416V

36. Denise Summer, Columbia, Maryland, Court of Federal Claims No: 20-0418V

37. Gilda Jimenez, San Antonio, Texas, Court of Federal Claims No: 20-0419V

38. Michael Poole, Philadelphia, Pennsylvania, Court of Federal Claims No: 20-0420V

39. Ronnie Lacey, Massapequa, New York, Court of Federal Claims No: 20-0422V

40. Dawn Mack, Jonesboro, Georgia, Court of Federal Claims No: 20-0423V

41. Maria Lynn Myers on behalf of The Estate of Vincent Louis Matassa, Deceased, Millville, Delaware, Court of Federal Claims No: 20-0424V

42. Madeline Meehan, Wollaston, Massachusetts, Court of Federal Claims No: 20-0425V

43. Eugene Anthony Brown, Boston, Massachusetts, Court of Federal Claims No: 20-0426V

44. John W. Paola, East Providence, Rhode Island, Court of Federal Claims No: 20-0427V

45. Timothy Brophy, Wayne, New Jersey, Court of Federal Claims No: 20-0428V

46. Jacalyn Broze, Plymouth, Minnesota, Court of Federal Claims No: 20-0430V

47. Lisa Mathis, Holland, Michigan, Court of Federal Claims No: 20-0431V

48. David Alexander, Reston, Virginia, Court of Federal Claims No: 20-0432V

49. Heather Jarusewski on behalf of L. S. J., Carlisle, Pennsylvania, Court of Federal Claims No: 20-0433V

50. Tammy Berry, Searcy, Arkansas, Court of Federal Claims No: 20-0434V

51. Allison Trop, Wellesley Hills, Massachusetts, Court of Federal Claims No: 20-0435V

52. Maryam Ebrahimi, Denver, Colorado, Court of Federal Claims No: 20-0436V

53. Brenda G. Fritz, Atlanta, Georgia, Court of Federal Claims No: 20-0439V

54. Sheridan Anderson, Rancho Santa Margarita, California, Court of Federal Claims No: 20-0440V

55. Lawrence Hood, Dickson, Tennessee, Court of Federal Claims No: 20-0441V

56. Ellen Whitaker, Plainwell, Michigan, Court of Federal Claims No: 20-0442V

57. Brenda Helmandollar on behalf of The Estate of John Helmandollar, Deceased, El Dorado, Kansas, Court of Federal Claims No: 20-0443V

58. Mary Beth Neiman, Cherry Hill, New Jersey, Court of Federal Claims No: 20-0445V

59. Christina Wells, Faribault, Minnesota, Court of Federal Claims No: 20-0446V

60. Catharine Berglund, Caldwell, Idaho, Court of Federal Claims No: 20-0447V

61. Lesli Autumn Akers, Milan, Tennessee, Court of Federal Claims No: 20-0448V

62. Sandra Gillingham, Great Falls, Montana, Court of Federal Claims No: 20-0450V

63. Diane Hildebrandt, Virginia Beach, Virginia, Court of Federal Claims No: 20-0452V

64. Denissa Harte, Mobile, Alabama, Court of Federal Claims No: 20-0453V

65. Jori Baldwin, Atlanta, Georgia, Court of Federal Claims No: 20-0457V

66. Debra Crawford, Ocala, Florida, Court of Federal Claims No: 20-0460V

67. Kelly Mox, Washington, District of Columbia, Court of Federal Claims No: 20-0462V

68. Robert Payne on behalf of The Estate of Wanda Payne, Deceased, Fort Worth, Texas, Court of Federal Claims No: 20-0463V

69. Darrel W. Walters, Florence, South Carolina, Court of Federal Claims No: 20-0464V

70. Shoshana Robuck, New York, New York, Court of Federal Claims No: 20-0465V

71. Sally Johnson, Washington, District of Columbia, Court of Federal Claims No: 20-0466V

72. Nancy Otero, Washington, District of Columbia, Court of Federal Claims No: 20-0467V

73. Jaime Zoerman, Washington, District of Columbia, Court of Federal Claims No: 20-0468V

74. Robyn Zalecky, Washington, District of Columbia, Court of Federal Claims No: 20-0471V

75. Amy Lange, Washington, District of Columbia, Court of Federal Claims No: 20-0472V

76. John Bradberry, Washington, District of Columbia

Court of Federal Claims No: 20-0473V

77. Adrianne Hick, Washington, District of Columbia, Court of Federal Claims No: 20-0474V

78. Lorinne Taylor, Washington, District of Columbia, Court of Federal Claims No: 20-0475V

79. David Frank, Richmond, Virginia, Court of Federal Claims No: 20-0476V

80. Margaret Legum, Fairfax, Virginia, Court of Federal Claims No: 20-0477V

81. Scarlett Young on behalf of The Estate of Jimmie Vance, Paris, Kentucky, Court of Federal Claims No: 20-0478V

82. Wayne Santoro, Washington, District of Columbia, Court of Federal Claims No: 20-0479V

83. Timothy John Rawlings, Topeka, Kansas, Court of Federal Claims No: 20-0480V

84. Michelle Lehmann, Washington, District of Columbia, Court of Federal Claims No: 20-0481V

85. Chris McMullen, Lancaster, California, Court of Federal Claims No: 20-0482V

86. Virginia Flanagan, Olathe, Kansas, Court of Federal Claims No: 20-0484V

87. Kimberlee Winkle, Fountain Valley, California, Court of Federal Claims No: 20-0485V

88. Tammy Brannan, Golden, Colorado, Court of Federal Claims No: 20-0486V

89. Jennifer Wilson, Charleston, South Carolina, Court of Federal Claims No: 20-0487V

90. Ruth Vizcarra, Chandler, Arizona, Court of Federal Claims No: 20-0488V

91. Steven Corwin, Lihue, Hawaii, Court of Federal Claims No: 20-0491V

92. Glenn Smith, Jr., New Orleans, Louisiana, Court of Federal Claims No: 20-0492V

93. Junetta Justice, Marshville, North Carolina, Court of Federal Claims No: 20-0493V

94. Vincent Begay, Kayenta, Arizona, Court of Federal Claims No: 20-0494V

95. Kaitlin Babyak, Fort Washington, Pennsylvania, Court of Federal Claims No: 20-0495V

96. Holly Tigges, Cedar Rapids, Iowa, Court of Federal Claims No: 20-0496V

97. Ruby Williams, Houston, Texas, Court of Federal Claims No: 20-0498V

98. Pamela Bell, Jacksonville, Florida, Court of Federal Claims No: 20-0501V

99. Dean Piermattei, Harrisburg, Pennsylvania, Court of Federal Claims No: 20-0502V

100. Mayra Del Bosque on behalf of M. R., Laredo, Texas, Court of Federal Claims No: 20-0503V

101. Sarah L. Malone, Mesa, Arizona, Court of Federal Claims No: 20-0506V

102. Lisa A. Barno, Jefferson Hills, Pennsylvania, Court of Federal Claims No: 20-0507V

103. Jerry Taylor, Atlanta, Georgia, Court of Federal Claims No: 20-0508V

104. Erin Callahan, Kensington, Maryland, Court of Federal Claims No: 20-0510V

105. Jennifer Drees, Des Moines, Iowa, Court of Federal Claims No: 20-0511V

106. Carol Wagner, Cleveland, Ohio, Court of Federal Claims No: 20-0512V

107. Nadine Botelho, Sonora, California, Court of Federal Claims No: 20-0513V

108. Shawna Troxell, Rio Rancho, New Mexico, Court of Federal Claims No: 20-0515V

109. Brian Williams, Atlanta, Georgia, Court of Federal Claims No: 20-0516V

110. Jeanette Williams, Athens, Georgia, Court of Federal Claims No: 20-0519V

111. April Colon on behalf of C. L., Middletown, New York, Court of Federal Claims No: 20-0521V

112. Ana Quartarone on behalf of O. Q., Wellesley Hills, Massachusetts, Court of Federal Claims No: 20-0522V

113. Edgar Jones, Canton, Mississippi, Court of Federal Claims No: 20-0523V

114. Roberto A. Tejeda, San Antonio, Texas, Court of Federal Claims No: 20-0525V

115. Erwin Evans, Mount Morris, Michigan, Court of Federal Claims No: 20-0527V

116. Thomas Laha, Seattle, Washington, Court of Federal Claims No: 20-0528V

117. Michael Blackmon, Bronx, New York, Court of Federal Claims No: 20-0530V

118. Bonnie Miller, Glenview, Illinois, Court of Federal Claims No: 20-0531V

119. Pamela Gallus, Mt. Holly, New Jersey, Court of Federal Claims No: 20-0532V

120. Kathleen Puhi and Kawelolani Puhi on behalf of K. P., Sarasota, Florida,Court of Federal Claims No: 20-0533V

121. Kathryn Lungaro, Memphis, Tennessee,Court of Federal Claims No: 20-0534V

122. Daisy Parrish Seattle, Washington, Court of Federal Claims No: 20-0535V

123. Edward Diaz,Dresher, Pennsylvania,Court of Federal Claims No: 20-0536V

124. Ronald Tanski,Beverly Hills, California,Court of Federal Claims No: 20-0537V

125. David Dubriske,Beverly Hills, California,Court of Federal Claims No: 20-0538V

126. Sharon Spiegelglas,Beverly Hills, California, Court of Federal Claims No: 20-0539V

[FR Doc. 2020-10634 Filed 5-15-20; 8:45 am]

BILLING CODE 4165-15-P